DEPARTMENT OF ENERGY

Federal Energy Regulatory Commission

[Docket No. CP02-6-001]

Colorado Interstate Gas Company; Notice of Amendment to Application

March 14, 2002.

Take notice that on March 4, 2002, Colorado Interstate Gas Company (CIG), Post Office Box 1087, Colorado Springs, Colorado 80944, filed pursuant to section 7(c) of the Natural Gas Act (NGA) and Part 157 of the Commission's Regulations in Docket No. CP02-6-001 an amendment to its pending application in Docket No. CP02-6-000 to modify the proposed expansion of its existing interstate pipeline system by reducing the lengths of the proposed loop line segments, all as more fully set forth in the application which is on file with the Commission and open to public inspection. This filing may also be viewed on the web at http://www.ferc.gov using the “RIMS” link, select “Docket #” and follow the instructions (call 202-208-2222 for assistance).

In its application in Docket No. CP02-6-000, CIG stated that it proposed to construct and operate facilities necessary to transport additional volumes of approximately 57.8 MMcf per day (55 MDth per day) of natural gas out of the Raton Basin Area in Colorado and New Mexico. In addition, CIG stated that it proposed to construct and operate facilities south of its Keyes Compressor Station to allow Raton Basin shippers to deliver incremental quantities of gas to interconnections with the interstate pipeline systems of El Paso Natural Gas Company and Northern Natural Gas Company. To accomplish this, CIG proposed to construct two loop line segments along its Campo Lateral and a loop of a portion of its existing Line 3A south of the existing Keyes Compressor Station.

CIG states that, subsequently, one of the shippers holding rights to a portion of the proposed incremental capacity on the Raton Basin 2002 Expansion Project was unable to meet the terms set forth in its Transportation Precedent Agreement with CIG, resulting in the termination of this agreement. CIG states that, as a result of the termination of the agreement, it now proposes to amend its application in this proceeding to revise the facilities to be constructed. Specifically, CIG states that it plans to reduce the lengths of the proposed pipeline loop segments, as follows:

(1) Reduce the length of 16-inch diameter pipeline loop of CIG's existing Campo Lateral from 25.61 miles to 22.10 miles; this loop line would extend from the outlet of the CIG's Trinidad Compressor Station in Section 25, Township 32 South, Range 63 West to a point west of Trinchera Creek in Section 21, Township 33 South, Range 59 West, all in Las Animas County, Colorado.

(2) Reduce the length of 16-inch diameter pipeline loop of CIG's existing Campo Lateral from 28.14 miles to 24.20 miles; this loop line would extend from the outlet of CIG's Kim Compressor Station in Section 31, Township 32 South, Range 54 West, Las Animas County, Colorado to a point east of County Road 1 in Section 29, Township 32 South, Range 50 West, Baca County, Colorado.

(3) Reduce the length of 20-inch diameter pipeline loop of CIG's existing Line 3A from 14.40 miles to 7.67 miles, this loop line would extend from the outlet of CIG's Keyes Compressor Station in Section 17, Township 5 North, Range 7 East to Gate 9/Keyes Meter Station in Section 23, Township 4 North, Range 7 East, all in Cimarron County, Oklahoma.

CIG states that the revised Campo Lateral loop line segments will increase the take-away capacity from the Raton Basin Area by approximately 47.3 MMcf per day (45 MDth per day). CIG further states that the 3A loop line will facilitate the delivery of incremental volumes to points on the southern end of its transmission system.

CIG estimates that the proposed cost of the expansion will be $22,070,400. Further, CIG states that the combination of existing and revised incremental entitlements represent 100 percent of CIG's capacity out of the Raton Basin Area through the Campo Lateral.

Any questions regarding this amendment should be directed to Robert T. Tomlinson; Director, Regulatory Affairs; at (719) 520-3788; Colorado Interstate Gas Company; P.O. Box 1087; Colorado Springs, Colorado 80944. process.

Any person desiring to be heard or to make any protest with reference to said document should, on or before April 4, 2002, file with the Federal Energy Regulatory Commission; 888 First Street, NE., Washington, DC 20426 a protest or motion to intervene in accordance with the requirements of Rule 211 or 214 of the Commission's Rules of Practice and Procedure (18 CFR 385.211 or 385.214) and the Regulations under the NGA (18 CFR 157.10). All protests filed with the Commission will be considered by it in determining the appropriate action to be taken but will not serve to make the protestants parties to the proceeding. Any person wishing to become a party to a proceeding or to participate as a party in any hearing therein must file a motion to intervene in accordance with the Commission's Rules.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered; a person, instead, may submit two copies of such comments to the Secretary of the Commission. Commenters will be placed on the Commission's environmental mailing list, will receive copies of environmental documents, and will be able to participate in meetings associated with the Commission's environmental review process. Commenters will not receive copies of all documents filed by other parties or issued by the Commission and will not have the right to seek rehearing or appeal the Commission's final order to a Federal court.

The Commission will consider all comments and concerns equally, whether filed by Commenters or those requesting intervenor status.

Comments, protests, and interventions may be filed electronically via the Internet in lieu of paper copies. See 18 CFR 385.2001(a) (1)(iii) and the instructions on the Commission's web site under the “e-filing” link.

Take further notice that, pursuant to the authority contained in and subject to the jurisdiction conferred upon the Federal Energy Regulatory Commission by Sections 7 and 15 of the NGA and the Commission's Rules of Practice and Procedure, a hearing will be held without further notice before the Commission or its designee on this document if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for CIG to appear or be represented at the hearing.

Linwood A. Watson, Jr.,
Deputy Secretary.

[FR Doc. 02-6696 Filed 3-19-02; 8:45 am]

BILLING CODE 6717-01-P